DEPARTMENT OF EDUCATION

Applications for New Awards; Independent Living Services for Older Individuals Who Are Blind Program—Independent Living Services for Older Individuals Who Are Blind (OIB) Training and Technical Assistance; Corrections

AGENCY: Office of Special Education and Rehabilitative Services, Department of Education.

ACTION: Notice; corrections.

SUMMARY: On January 14, 2025, we published in the Federal Register the Notice Inviting Applications (NIA) for the FY 2025 Independent Living Services for Older Individuals Who Are Blind Program—Independent Living Services for Older Individuals Who Are Blind Training and Technical Assistance competition, Assistance Listing Number 84.177Z. On February 10, 2025, we published in the Federal Register a correction to the original NIA, which set revised dates for when the applications would be available, the application transmittal deadline, and the intergovernmental review deadline. With this correction notice, we are revising the selection criteria as described further in Supplementary Information, extending the deadline date for the transmittal of applications until March 31, 2025, and the deadline date for intergovernmental review until May 30, 2025. All other information in the NIA remains the same.

DATES: These corrections are applicable on March 7, 2025.

FOR FURTHER INFORMATION CONTACT: Mary Williams, U.S. Department of Education, 400 Maryland Avenue SW, Room 4A220, Washington, DC 20202-5076. Telephone: (202) 245-6263. Email: mary.williams@ed.gov.

If you are deaf, hard of hearing, or have a speech disability and wish to access telecommunications relay services, please dial 7-1-1.

SUPPLEMENTARY INFORMATION: On January 14, 2025, we published in the Federal Register (90 FR 3188) the NIA for the FY 2025 Independent Living Services for Older Individuals Who Are Blind Program—Independent Living Services for Older Individuals Who Are Blind Training and Technical Assistance competition, Assistance Listing Number 84.177Z. The Department is correcting the NIA by removing two selection criteria (Quality of project services and Quality of the project personnel), amending factors under two selection criteria (four factors previously under Quality of project services are moved to Quality of the project design, one factor under Quality of the project personnel is moved to Quality of the management plan, two factors under Quality of project personnel are removed, and one factor is removed from and another added to Quality of the management plan), changing the point distribution for the selection criteria section, and extending the deadline for transmittal of applications for the 2025 competition and the deadline date for intergovernmental review. The Department is correcting this NIA as part of a comprehensive review of recently published FY 2025 NIAs. This reevaluation seeks to ensure that all priorities and requirements for the Department's FY 2025 competitions align with the objectives established by the Trump Administration while fostering consistency across all grant programs. Additionally, the Department is dedicated to optimizing the impact of our grant competitions on students and families, as well as enhancing the economic effectiveness of federal education funding. All other information in the NIA remains the same.

The Department will not consider applications submitted prior to March 7, 2025. Applicants that have already submitted an application under the FY 2025 Independent Living Services for Older Individuals Who Are Blind Program—Independent Living Services for Older Individuals Who Are Blind Training and Technical Assistance competition must submit an updated application on or before the extended application deadline of March 31, 2025, for the application to be reviewed. Program staff will endeavor to notify applicants that have already submitted an application of the requirement to submit an updated application. The Department will consider the application that is last submitted and timely received by 11:59:59 p.m., Eastern Time, on March 31, 2025.

Program Authority: 29 U.S.C. 796j-1.

Corrections

In FR Doc. 2025-00533, published in the Federal Register of January 14, 2025 (90 FR 3188), we make the following corrections:

1. On page 3188, in the third column, the text under the DATES preamble is corrected to read as follows:

Applications Available: January 15, 2025.

Deadline for Transmittal of Applications: March 31, 2025.

Deadline for Intergovernmental Review: May 30, 2025.

2. On page 3191, in the second column, “1. Selection Criteria:” is corrected to read as follows:

“1. Selection Criteria: The selection criteria for this competition are from 34 CFR 75.210 and are as follows:

(a) Significance (15 points).

(1) The Secretary considers the significance of the proposed project.

(2) In determining the significance of the proposed project, the Secretary considers the following factors:

(i) The likelihood that the proposed project will result in systemic change that supports continuous, sustainable, and measurable improvement.

(ii) The extent to which the proposed project is likely to build local, State, regional, or national capacity to provide, improve, sustain, or expand training or services that address the needs of underserved populations.

(iii) The importance or magnitude of the results or outcomes likely to be attained by the proposed project, especially improvements in independent living services.

(b) Quality of the project design (35 points).

(1) The Secretary considers the quality of the design of the proposed project.

(2) In determining the quality of the design of the proposed project, the Secretary considers the following factors:

(i) The extent to which the goals, objectives, and outcomes to be achieved by the proposed project are clearly specified, measurable, and ambitious yet achievable within the project period, and aligned with the purposes of the grant program.

(ii) The extent to which the proposed project demonstrates that it is designed to build capacity and yield sustainable results that will extend beyond the project period.

(iii) The extent to which the proposed project will include coordination with other Federal investments, as well as appropriate agencies and organizations providing similar services to the target population.

(iv) The quality of the logic model or other conceptual framework underlying the proposed project, including how inputs are related to outcomes.

(v) The extent to which the services to be provided by the proposed project reflect up-to-date knowledge and an evidence-based project component.

(vi) The extent to which the services to be provided by the proposed project were determined with input from the community to be served to ensure that they are appropriate and responsive to the needs of the intended recipients or beneficiaries, including underserved populations, of those services.

(vii) The extent to which the services to be provided by the proposed project involve the collaboration of appropriate partners, including those from underserved populations, to maximize the effectiveness of project services.

(viii) The extent to which the services to be provided by the proposed project involve the use of efficient strategies, including the use of technology, as appropriate, and the leveraging of non-project resources.

(c) Quality of the project evaluation or other evidence-building. (15 points).

(1) The Secretary considers the quality of the evaluation or other evidence-building of the proposed project.

(2) In determining the quality of the evaluation or other evidence-building, the Secretary considers the following factors:

(i) The extent to which the methods of evaluation or other evidence-building are thorough, feasible, relevant, and appropriate to the goals, objectives, and outcomes of the proposed project.

(ii) The extent to which the methods of evaluation or other evidence-building are appropriate to the context within which the project operates and the target population of the proposed project.

(iii) The extent to which the methods of evaluation or other evidence-building will provide performance feedback and provide formative, diagnostic, or interim data that is a periodic assessment of progress toward achieving intended outcomes.

(iv) The extent to which the methods of evaluation or other evidence-building include the use of objective performance measures that are clearly related to the intended outcomes of the project and will produce quality data that are quantitative and qualitative.

(d) Adequacy of resources (10 points).

(1) The Secretary considers the adequacy of resources for the proposed project.

(2) In determining the adequacy of resources for the proposed project, the Secretary considers the following factors:

(i) The adequacy of support for the project, including facilities, equipment, supplies, and other resources, from the applicant or the lead applicant organization.

(ii) The extent to which the budget is adequate to support the proposed project and the costs are reasonable in relation to the objectives, design, and potential significance of the proposed project.

(iii) The relevance and demonstrated commitment of each partner in the proposed project to the implementation and success of the project.

(e) Quality of the management plan (25 points).

(1) The Secretary considers the quality of the management plan for the proposed project.

(2) In determining the quality of the management plan for the proposed project, the Secretary considers the following factors:

(i) The feasibility of the management plan to achieve project objectives and goals on time and within budget, including clearly defined responsibilities, timelines, and milestones for accomplishing project tasks;

(ii) The extent to which the time commitments of the project director and principal investigator and other key project personnel are appropriate and adequate to meet the objectives of the proposed project;

(iii) The adequacy of mechanisms for ensuring high-quality and accessible products and services from the proposed project for the target population.

(iv) The qualifications, including relevant training and experience, of project consultants or subcontractors.

(v) The extent to which the project director or principal investigator, when hired, has the qualifications required for the project, including formal training or work experience in fields related to the objectives of the project and experience in designing, managing, or implementing similar projects for the target population to be served by the project.”

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Erin McHugh,
Deputy Assistant Secretary for Management and Planning and Acting Assistant Secretary for Special Education and Rehabilitative Services.

[FR Doc. 2025-03727 Filed 3-6-25; 8:45 am]

BILLING CODE 4000-01-P